DEPARTMENT OF TRANSPORTATION

Surface Transportation Board

[Ex Parte No. 333]

Sunshine Act Meeting

TIME AND DATE: 9 a.m., September 15, 2005.

PLACE: The Board's Hearing Room, Surface Transportation Board, 1925 K Street, NW., Washington, DC 20423.

STATUS: The Board will meet to discuss among themselves the following agenda items. Although the conference is open for public observation, no public participation is permitted.

MATTERS TO BE CONSIDERED: STB Docket No. WCC-101, Government of the Territory of Guam v. Sea-Land Service, Inc., American President Lines, LTD., and Matson Navigation Company, Inc.

STB Finance Docket No. 34505, East Brookfield & Spencer Railroad, LLC—Lease and Operation Exemption—CSX Transportation, Inc.

STB Docket No. AB-441 (Sub-No. 4X), San Pedro Railroad Operating Company, LLC—Abandonment Exemption—in Cochise County, AZ.

STB Docket No. AB-976X, Pittsburg & Shawmut Railroad, LLC—Abandonment Exemption—in Armstrong and Jefferson Counties, PA.

STB Docket No. AB-600, Yakima Interurban Lines Association—Adverse Abandonment—in Yakima County, WA.

STB Finance Docket No. 34746, Kansas & Oklahoma Railroad, Inc.—Acquisition Exemption—Rail Line of Union Pacific Railroad Company.

STB Finance Docket No. 34694 (Sub-No. 1), Union Pacific Railroad Company—Temporary Trackage Rights Exemption—BNSF Railway Company.

FOR FURTHER INFORMATION CONTACT: A. Dennis Watson, Office of Congressional and Public Services, Telephone: (202) 565-1596 FIRS: 1-800-877-8339.

Dated: September 8, 2005.
Vernon A. Williams,
Secretary.

[FR Doc. 05-18131 Filed 9-8-05; 1:51 pm]

BILLING CODE 4915-01-P